DEPARTMENT OF DEFENSE

Office of the Secretary

32 CFR Part 231

RIN 0790-AG74

Procedures Governing Banks, Credit Unions and Other Financial Institutions on DoD Installations; Correction

AGENCY: Department of Defense.

ACTION: Final rule; correction.

SUMMARY: On September 7, 2001 (66 FR 46707), the Department of Defense published a final rule on Procedures Governing Banks, Credit Unions and Other Financial Institutions on DoD Installations. This rule makes administrative corrections to the rule.

DATES: This rule is effective June 1, 2001.

FOR FURTHER INFORMATION CONTACT: T. Summers, 703-602-0299.

Accordingly, 32 CFR part 231 is corrected as follows:

In rule FR Doc 01-22173 published on September 7, 2001 (66 FR 46709), make the following corrections:

1. Page 46715, §§ 231.5(g)(5) (i) through (ix), add a period at the end of each paragraph.

2. Page 46720, § 231.8, correct the heading “Overseas credit unions” to read “Procedures—overseas credit unions”

3. On page 46722, first column, § 231.8(f) is corrected to read § 231.9—Definitions.

4. Newly corrected § 231.9 (1) through (16)(i) and (ii) are redesignated as § 231.9 (a) through (p)(1) and (2) and § 231.9 (17) through (29) are redesignated as § 231.9 (q) through (cc)

Dated: October 16, 2001.
L.M. Bynum,
Alternate OSD Federal Register Liaison Officer, Department of Defense.

[FR Doc. 01-26527 Filed 10-25-01; 8:45 am]

BILLING CODE 5001-08-M